NUCLEAR REGULATORY COMMISSION

Public Workshop on New Reactor Licensing Activities

AGENCY: Nuclear Regulatory Commission.

ACTION: Notice of public workshop.

SUMMARY: The Nuclear Regulatory Commission (NRC) has scheduled a public workshop to inform the public of preliminary staff positions presented in SECY-01-0207, “Legal and Financial Issues Related to Exelon's Pebble Bed Modular Reactor (PBMR),” dated November 20, 2001 (ML012850139), and to provide an opportunity for stakeholders, including members of the public, to provide feedback on these positions.

DATES: March 27, 2002, from 1 p.m.-5 p.m.

ADDRESSES: The workshop will be held in the NRC's Auditorium at Two White Flint North, 11545 Rockville Pike, Rockville, Maryland 20852-2738.

FOR FURTHER INFORMATION: Contact Amy Cubbage, Mail Stop O-11D17, U.S. Nuclear Regulatory Commission, Washington, DC 20555-0001. Members of the public may pre-register for this meeting by contacting Amy Cubbage at (800) 368-5642, ext. 2875, or by Internet at aec@nrc.gov by March 21, 2002.

The NRC maintains an Agencywide Documents Access and Management System (ADAMS) which provides text and image files of NRC's public documents. These documents may be accessed through the NRC's Public Electronic Reading Room on the Internet at http://www.nrc.gov/NRC/ADAMS/Index.html. If you do not have access to ADAMS or if there are problems in accessing the documents located in ADAMS, contact the NRC Public Document Room (PDR) reference staff at 1-800-397-4209, 301-415-4737 or by e-mail to pdr@nrc.gov.

SUPPLEMENTARY INFORMATION: By letter dated December 5, 2000, Exelon Generation Company expressed an interest in pre-application activities for the pebble bed modular reactor (PBMR). The staff began its pre-application review at a meeting with Exelon on April 30, 2001. As part of the meeting, Exelon discussed legal and financial issues that they believe merit special consideration due to the unique features of the modular facility, the gas-cooled reactor design and their intention to operate the PBMR as a merchant plant. By letter dated May 10, 2001 (ML011420393), Exelon submitted nine white papers on these legal and financial issues and requested an agency response. The nine white papers addressed requirements associated with operator staffing; fuel cycle impacts; financial qualifications; decommissioning funding; minimum decommissioning costs; antitrust review; number of licenses; annual fees; and financial protection.

In addition to issues discussed in the white paper proposals, the staff identified the following related issues to Exelon's proposals that may affect the PBMR application: License life for one combined license for multiple reactors; duration of design approval under a combined license (COL) for multiple reactors; commencement of annual fees; and testing of new design features for a COL.

SECY-01-0207, “Legal and Financial Issues Related to Exelon's Pebble Bed Modular Reactor (PBMR),” dated November 20, 2001 (ML012850139), presents preliminary positions related to the staff's assessment of Exelon's proposals on legal and financial issues and additional staff-identified licensing-related issues that may affect the Exelon application. The staff committed to hold a workshop to apprise Exelon and other stakeholders on the positions presented in the paper and receive their feedback. Based on this feedback, the staff will amend its positions, as necessary, and make recommendations on policy issues related to the legal and financial issues for Commission approval later this year.

For each of the issues discussed above, the NRC staff will provide a brief summary of the issue. This will be followed by an open discussion and opportunity for all stakeholders, including members of the public, to provide feedback on the preliminary staff positions presented in SECY-01-0207. Comments on SECY-01-0207 may also be submitted in writing by April 10, 2002. Comments should be addressed to Amy Cubbage, U. S. Nuclear Regulatory Commission, Mail Stop O-11-D-17, Washington, DC 20555-0001.

A final agenda and schedule will be published on the NRC Web site when it is available: http://www.nrc.gov/public-involve/public-meetings/meeting-schedule.html.

Dated at Rockville, Maryland, this 12th day of March 2002.
For the Nuclear Regulatory Commission.
James E. Lyons,
Director, New Reactor Licensing Project Office, Office of Nuclear Reactor Regulation.

[FR Doc. 02-6494 Filed 3-18-02; 8:45 am]

BILLING CODE 7590-01-P